DEPARTMENT OF LABOR

Occupational Safety and Health Administration

[Docket No. ICR-1218-0190 (2000)]

Electrical Power Generation, Transmission, and Distribution (29 CFR 1910.269) and Electrical Protective Equipment (29 CFR 1910.137)); Extension of the Office of Management and Budget's (OMB) Approval of an Information Collection (Paperwork) Request

AGENCY: Occupational Safety and Health Administration (OSHA); Labor.

ACTION: Notice of an opportunity for public comment.

SUMMARY: OSHA solicits comments concerning the proposed extension of the information collection requirements contained in the standards on Electrical Power Generation, Transmission, and Distribution, 29 CFR 1910.269, and Electrical Protective Equipment, 29 CFR 1910.137.

Request For Comment: The Agency seeks comments on the following issues:

• Whether the information collection requirements are necessary for the proper performance of the Agency's functions, including whether the information is useful;

• The accuracy of the Agency's estimate of the burden (time and costs) of the information collection requirements, including the validity of the methodology and assumptions used;

• The quality, utility, and clarity of the information collected; and

• Ways to minimize the burden on employers who must comply; for example, by using automated or other technological information transmission and collection techniques.

DATES: Submit written comments on or before July 31, 2000.

ADDRESSES: Submit written comments to the Docket Office, Docket No. ICR-1218-0190(2000), Occupational Safety and Health Administration, U.S. Department of Labor, Room N-2625, 200 Constitution Avenue, N.W., Washington, DC 20210; telephone: (202) 693-2350. Commenters may transmit written comments of 10 pages or less in length by facsimile to (202) 693-1648.

FOR FURTHER INFORMATION CONTACT: Theda Kenney, Directorate of Safety Standards Programs, Occupational Safety and Health Administration, U.S. Department of Labor, Room 3-3609, 200 Constitution Avenue, N.W., Washington, DC 20210; telephone: (202) 693-2222. A copy of the Agency's Information Collection Request (ICR) supporting the need for the information collection requirements contained in the standards on Electrical Power Generation, Transmission, and Distribution (29 CFR 1910.269) and Electrical Protective Equipment (29 CFR 1910.137) is available for inspection and copying in the Docket Office, or mailed on request by telephoning Theda Kenney at (202) 693-2222 or Barbara Bielaski at (202) 693-2444. For electronic copies of the ICR, contact OSHA on the Internet at http://www.osha.gov/comp-links.html, and click on “Information Collection Requests.”

SUPPLEMENTARY INFORMATION:

1. Background

The Department of Labor, as part of its continuing effort to reduce paperwork and respondent burden, conducts a preclearance consultation program to provide the general public and Federal agencies with an opportunity to comment on proposed and continuing informatin collection requirements in accordance with the Paperwork Reduction Act of 1995 (PRA-95) (44 U.S.C. 3506(c)(2)(A)). This program ensures that information is in the desired format, reporting burden (time and costs) is minimal, collection instruments are clearly understood, and OSHA's estimate of the information collection burden is correct.

The Occupational Safety and Health Act of 1970 (the Act) authorizes information collection by employers as necessary or appropriate for enforcement of the Act or for developing information regarding the causes and prevention of occupational injuries, illnesses, and accidents. (29 U.S.C. 657.) In this regard, the information collection requirement contained in 29 CFR 1910.269 will ensure that employers train employees in all aspects of electrical power generation, transmission, and distribution. The information collection requirement in 29 CFR 1910.137 will ensure that equipment used by exposed employees is in reliable working condition.

II. Proposed Actions

OSHA proposes to decrease its earlier estimate of 40,086 burden hours to 11,178 burden hours for the collections of information found in 29 CFR 1910.269 (Electrical Power Generation, Transmission, and Distribution), and 29 CFR 1910.137 (Electrical Protective Equipment). OSHA will summarize the comments submitted in response to this notice, and will include this summary in the request to OMB to extend the approval of the information collection requirements contained in the above standards.

Type of Review: Extension of currently approved information collection requirement.

Agency: Occupational Safety and Health Administration.

Title: Electrical Power Generation, Transmission, and Distribution (29 CFR 1910.269) and Electrical Protective Equipment (29 CFR 1910.137).

OMB Number: 1218-0190.

Affected Public: Business or other for-profit; not-for-profit institutions; Federal government; state, local or tribal government.

Number of Respondents: 362,000.

Frequency: On occasion; annually; semi-annually.

Average Time per Response: 2 minutes (0.03 hour) to 15 minutes (0.25 hour).

Estimated Total Burden Hours: 11,178.

III. Authority and Signature

Charles N. Jeffress, Assistant Secretary of Labor for Occupational Safety and Health, directed the preparation of this notice. The authority for this notice is the Paperwork Reduction Act of 1995 (44 U.S.C. 3506), Secretary of Labor's Order No. 6-96 (62 FR 111).

Signed at Washington, DC, this 26 day of May 2000.
Charles N. Jeffress,
Assistant Secretary of Labor.

[FR Doc. 00-13747 Filed 5-31-00; 8:45 am]

BILLING CODE 4510-26-M